Title 3—

The President

Proclamation 8338 of January 13, 2009

Religious Freedom Day, 2009

By the President of the United States of America

A Proclamation

Religious freedom is the foundation of a healthy and hopeful society. On Religious Freedom Day, we recognize the importance of the 1786 passage of the Virginia Statute for Religious Freedom. We also celebrate the first liberties enshrined in our Constitution’s Bill of Rights, which guarantee the free exercise of religion for all Americans and prohibit an establishment of religion.

Our Nation was founded by people seeking haven from religious persecution, and the religious liberty they found here remains one of this land’s greatest blessings. As Americans, we believe that all people have inherent dignity and worth. Though we may profess different creeds and worship in different manners and places, we respect each other’s humanity and expression of faith. People with diverse views can practice their faiths here while living together in peace and harmony, carrying on our Nation’s noble tradition of religious freedom.

The United States also stands with religious dissidents and believers from around the globe who practice their faith peacefully. Freedom is not a grant of government or a right for Americans alone; it is the birthright of every man, woman, and child throughout the world. No human freedom is more fundamental than the right to worship in accordance with one’s conscience.

Religious Freedom Day is an opportunity to celebrate our legacy of religious liberty, foster a culture of tolerance and peace, and renew commitments to ensure that every person on Earth can enjoy these basic human rights.

NOW, THEREFORE, I, GEORGE W. BUSH, President of the United States of America, by virtue of the authority vested in me by the Constitution and laws of the United States, do hereby proclaim January 16, 2009, as Religious Freedom Day. I call on all Americans to reflect on the great blessing of religious liberty, endeavor to preserve this freedom for future generations, and commemorate this day with appropriate events and activities.

IN WITNESS WHEREOF, I have hereunto set my hand this thirteenth day of January, in the year of our Lord two thousand nine, and of the Independence of the United States of America the two hundred and thirty-third.

[FR Doc. E9-1032

Filed 1-14-09; 11:15 am]

Billing code 3195-W9-P